DEPARTMENT OF AGRICULTURE

Foreign Agricultural Service

Privacy Act of 1974: New System of Records

AGENCY: Foreign Agricultural Service.

ACTION: Notice of a new system of records.

SUMMARY: The Foreign Agricultural Service (FAS) proposes to add a system of records notice to its inventory of records systems subject to the Privacy Act of 1974 (5 U.S.C. 552a), as amended. This action is necessary to meet the requirements of the Privacy Act to publish in the Federal Register notice of the existence and character of records systems maintained by the agency (5 U.S.C. 552a(e)(4)).

DATES: This action will be effective without further notice August 23, 2007 unless comments are received that would result in a contrary determination.

ADDRESSES: Send written comments to Privacy Act Officer, U.S. Department of Agriculture, FAS/OAO, Mail Stop 1031, 1400 Independence Avenue, SW., Washington, DC 20250-1031.

FOR FURTHER INFORMATION CONTACT: Paola Felix, USDA/FAS/OAO/BD, Mail Stop 1028, 1400 Independence Avenue, SW., Washington, DC 20250-1028.

SUPPLEMENTARY INFORMATION: The International Funds Control Reporting System (IFCRS) is a major tool in providing FAS with specialized reports for management down to the sub-organizational level, as well as supporting reimbursable agreements with other government entities, such as the U.S. Agency for International Development (USAID). IFCRS is also a critical link between the Department of State (DOS) and USDA's Foundation Financial Information System (FFIS). IFCRS provides the ability to convert DOS data into a format accepted by FFIS. In addition, IFCRS provides the Agency the tools to manage and report in order to support reimbursable agreements of the agency.

While official accounting functions are handled by the National Finance Center in New Orleans, FAS maintains detailed data in order to efficiently manage fiscal operations and control funds. Users of the system include the Financial Management Division (FMD) employees, employees of FAS's program staff, employees of the FAS Budget Division, and provides support to personnel in the Farm Service Agency.

USDA/FAS-6

SYSTEM NAME:

International Funds Control Reporting System (IFCRS).

SYSTEM LOCATION:

Electronic records are maintained by the Foreign Agricultural Service, United States Department of Agriculture, 1400 Independence Avenue, SW., Washington, DC 20250.

CATEGORIES OF INDIVIDUALS COVERED BY THE SYSTEM:

Federal employees, private citizens and foreign visitors.

CATEGORIES OF RECORDS IN THE SYSTEM:

Federal employee's, private citizen's and foreign visitor's data included in the records are name, address, Social Security Number/Tax ID Number, invoice number.

AUTHORITY FOR MAINTENANCE OF THE SYSTEM:

5 U.S.C. 301, Departmental Regulations; E.O. 9397 (SSN).

PURPOSE:

The system is a major tool in providing FAS with accurate and detailed data to efficiently manage fiscal operations and control funds. IFCRS also provides the Agency with the tools to manage and report reimbursable activity of the Agency.

STORAGE:

Records are stored in electronic format.

RETRIEVABILITY:

Records are retrieved by vendor codes which in some cases are derived from either a social security number or tax id number.

SAFEGUARDS:

Records are stored in office buildings protected by guards, controlled screening, use of visitor registers, electronic access, and/or locks. Access to records is limited to individuals who are properly screened and cleared on a need to know basis in the performance of their official duties. Passwords and digital signatures are to control access to the systems data, and procedures are in place to deter and detect browsing and unauthorized access. Physical and electronic access are limited to persons responsible for servicing and authorized to use the record system.

RETENTION AND DISPOSAL:

Records will be retained for 5 years.

SYSTEM MANAGER(S) AND ADDRESS:

Budget Director, USDA/FAS/OAO/BD, Mail Stop 1028, 1400 Independence Avenue, SW., Washington, DC 20250-1028.

NOTIFICATION PROCEDURE:

Individuals seeking to determine whether this system of records contains information about themselves should address written inquiries to the Privacy Act Office, USDA/FAS/OAO, Mail Stop 1031, 1400 Independence Avenue, SW., Washington, DC 20250-1031. Individuals should furnish full name, social security number, current address, and telephone number.

RECORDS ACCESS PROCEDURE:

Individuals seeking access to or amend records pertaining to themselves should contact the Budget Director, USDA/FAS/OAO/BD, Mail Stop 1028, 1400 Independence Avenue, SW., Washington, DC 20250-1028. Individuals should furnish full name, social security number, current address, and telephone number.

RECORD SOURCE CATEGORIES:

These records contain information obtained primarily from the individual, FAS components, and other Federal agencies.

SYSTEM EXEMPTED FROM CERTAIN PROVISIONS OF THE ACT:

None.

Dated: July 6, 2007.
Michael W. Yost,
Administrator, Foreign Agricultural Service.

[FR Doc. 07-3596 Filed 7-23-07; 8:45 am]

BILLING CODE 3410-10-M